DEPARTMENT OF COMMERCE

International Trade Administration

[A-580-841]

Structural Steel Beams From the Republic of Korea: Notice of Final Results of Changed Circumstances Antidumping Duty Administrative Review

AGENCY: Import Administration, International Trade Administration, Department of Commerce.

ACTION: Notice of Final Results of Changed Circumstances Antidumping Duty Administrative Review.

SUMMARY: On November 14, 2001, the Department of Commerce (“Department”) published the notice of preliminary results of its changed circumstances review examining whether INI Steel Company (“INI”) is the successor-in-interest to Inchon Iron & Steel Co., Ltd. (“Inchon”) by virtue of its name change. See Notice of Preliminary Results of Changed Circumstances Antidumping Duty Administrative Review: Structural Steel Beams from the Republic of Korea, 66 FR 57035 (November 14, 2001) (“Preliminary Results”). We have now completed this changed circumstances review in accordance with 19 CFR 351.216 and 351.221(c)(3).

As a result of this review, the Department finds that INI is the successor-in-interest to Inchon, and INI should retain the deposit rate assigned to Inchon by the Department for all entries of the subject merchandise produced or exported by INI.

EFFECTIVE DATE: March 18, 2002.

FOR FURTHER INFORMATION CONTACT: Cheryl Werner or Laurel LaCivita, Import Administration, International Trade Administration, U.S. Department of Commerce, 14th Street and Constitution Avenue, NW., Washington, DC 20230; telephone (202) 482-2667 and (202) 482-4243, respectively.

Applicable Statute and Regulations

Unless otherwise indicated, all citations to the statute are references to the provisions effective January 1, 1995, the effective date of the amendments made to the Tariff Act of 1930 (“the Act”) by the Uruguay Round Agreements Act. In addition, unless otherwise indicated, all citations to the Department's regulations are to the regulations at 19 CFR part 351 (2001).

SUPPLEMENTARY INFORMATION:

Background

On October 1, 2001, the Department initiated this changed circumstances review. See Structural Steel Beams from the Republic of Korea: Notice of Initiation of Changed Circumstances Antidumping Duty Administrative Review, 66 FR 49929 (October 1, 2001) (“Notice of Initiation”). On November 14, 2001, the Department published the preliminary results of its changed circumstances review in the above-named case. See Preliminary Results (66 FR 57035). We gave interested parties 21 days to comment on our preliminary results. However, no interested parties have provided comments and no request for a hearing was received by the Department.

Scope of the Review

The products covered by this review include structural steel beams that are doubly-symmetric shapes, whether hot-or cold-rolled, drawn, extruded, formed or finished, having at least one dimension of at least 80 mm (3.2 inches or more), whether of carbon or alloy (other than stainless) steel, and whether or not drilled, punched, notched, painted, coated or clad. These products include, but are not limited to, wide-flange beams (“W” shapes), bearing piles (“HP” shapes), standard beams (“S” or “I” shapes), and M-shapes.

All products that meet the physical and metallurgical descriptions provided above are within the scope of this investigation unless otherwise excluded. The following products are outside and/or specifically excluded from the scope of this investigation: structural steel beams greater than 400 pounds per linear foot or with a web or section height (also known as depth) over 40 inches.

The merchandise subject to this investigation is classified in the Harmonized Tariff Schedule of the United States (“HTSUS”) at subheadings: 7216.32.0000, 7216.33.0030, 7216.33.0060, 7216.33.0090, 7216.50.0000, 7216.61.0000, 7216.69.0000, 7216.91.0000, 7216.99.0000, 7228.70.3040, 7228.70.6000. Although the HTSUS subheadings are provided for convenience and Customs purposes, the written description of the merchandise under investigation is dispositive.

Successorship and Final Results of Review

On the basis of the record developed in this proceeding of the changed circumstances review, we determine INI to be the successor-in-interest to Inchon for purposes of determining antidumping duty liability. For a complete discussion of the basis for this decision see the Preliminary Results (66 FR 57035). Therefore, INI shall retain the antidumping duty deposit rate assigned to Inchon by the Department in the most recent administrative review of the subject merchandise.

This notice also serves as a final reminder to parties subject to administrative protective orders (APOs) of their responsibility concerning the disposition of proprietary information disclosed under APO in accordance with 19 CFR 351.305(a)(3). Failure to timely notify the Department in writing of the return/destruction of APO material is a sanctionable violation.

We are issuing and publishing this finding and notice in accordance with sections 751(b)(1) and 777(i)(1) of the Act and 19 CFR 351.221(c)(3) and 19 CFR 351.216.

Dated: March 11, 2002.
Faryar Shirzad,
Assistant Secretary for Import Administration.

[FR Doc. 02-6472 Filed 3-15-02; 8:45 am]

BILLING CODE 3510-DS-P